NUCLEAR REGULATORY COMMISSION

10 CFR Part 50

RIN 3150-AH32

Minor Changes to Decommissioning Trust Fund Provisions

AGENCY: Nuclear Regulatory Commission.

ACTION: Direct final rule: Confirmation of effective date.

SUMMARY: The Nuclear Regulatory Commission (NRC) is confirming the effective date of December 24, 2003, for the direct final rule that was published in the Federal Register on November 20, 2003 (68 FR 65386). This direct final rule amended the NRC's regulations related to decommissioning trust fund provisions to correct typographical errors and make minor changes to a final rule promulgated by the NRC in December of 2002.

EFFECTIVE DATE: The effective date of December 24, 2003, is confirmed for this direct final rule.

ADDRESSES: Documents related to this rulemaking may be examined at the NRC Public Document Room, located at One White Flint North, 11555 Rockville Pike, Rockville, MD 20852. These same documents may also be viewed and downloaded electronically via the rulemaking Web site (http://ruleforum.llnl.gov). For information about the interactive rulemaking Web site, contact Ms. Carol Gallagher (301) 415-6219, e-mail: CAG@nrc.gov.

FOR FURTHER INFORMATION CONTACT: Brian J. Richter, Office of Nuclear Reactor Regulation, U.S. Nuclear Regulatory Commission, Washington, DC 20555, Telephone (301) 415-1978, e-mail: bjr@nrc.gov.

SUPPLEMENTARY INFORMATION: On November 20, 2003 (68 FR 65386), the NRC published a direct final rule amending its regulations in 10 CFR part 50 related to decommissioning trust fund provisions to correct typographical errors and make minor changes to a final rule entitled “Decommissioning Trust Provisions,” promulgated by the NRC on December 24, 2002 (67 FR 78332). In the direct final rule, NRC stated that if no significant adverse comments were received, the direct final rule would become effective on December 24, 2003. The NRC did not receive any comments on the direct final rule. Therefore, this rule is effective as scheduled.

Dated at Rockville, Maryland, this 29th day of January, 2004.
For the Nuclear Regulatory Commission.
Michael T. Lesar,
Chief, Rules and Directives Branch, Division of Administrative Services, Office of Administration.

[FR Doc. 04-2240 Filed 2-3-04; 8:45 am]

BILLING CODE 7590-01-P